DEPARTMENT OF ENERGY

Environmental Management Site-Specific Advisory Board Chairs

AGENCY: Department of Energy.

ACTION: Notice of Open Meeting.

SUMMARY: This notice announces a meeting of the Environmental Management Site-Specific Advisory Board (EM SSAB) Chairs. The Federal Advisory Committee Act (Pub. L. 92-463, 86 Stat. 770) requires that public notice of this meeting be announced in the Federal Register.

DATES: Wednesday, June 15, 2011, 8 a.m.-5 p.m. and Thursday, June 16, 2011, 8 a.m.-12:30 p.m.

ADDRESSES: Aliante Station Hotel, 7300 Aliante Parkway, North Las Vegas, Nevada 89084.

FOR FURTHER INFORMATION CONTACT: Catherine Alexander Brennan, Designated Federal Officer, U.S. Department of Energy, 1000 Independence Avenue, SW., Washington, DC 20585; Phone: (202) 586-7711.

SUPPLEMENTARY INFORMATION: Purpose of the Board: The purpose of the Board is to make recommendations to DOE-EM and site management in the areas of environmental restoration, waste management, and related activities.

Tentative Agenda Topics

Wednesday, June 15, 2011

○ EM Program Update,

○ EM SSAB Chairs' Round Robin: Top Three Site-Specific Topics and Achievements,

○ EM Headquarters Budget Update,

○ EM Headquarters Waste Disposition Update,

○ EM SSAB Chairs' Roundtable Discussion: Day One Presentations and Product Development.

Thursday, June 16, 2011

○ EM Headquarters Groundwater Update,

○ EM SSAB Chairs' Roundtable Discussion: Day Two Presentations and Product Development.

Public Participation: The EM SSAB Chairs welcome the attendance of the public at their advisory committee meetings and will make every effort to accommodate persons with physical disabilities or special needs. If you require special accommodations due to a disability, please contact Catherine Alexander Brennan at least seven days in advance of the meeting at the phone number listed above. Written statements may be filed either before or after the meeting with the Designated Federal Officer, Catherine Alexander Brennan, at the address or telephone listed above. Individuals who wish to make oral statements pertaining to agenda items should also contact Catherine Alexander Brennan. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling Catherine Alexander Brennan at the address or phone number listed above. Minutes will also be available at the following Web site: http://www.em.doe.gov/stakepages/ssabchairs.aspx.

Issued at Washington, DC on May 20, 2011.
LaTanya R. Butler,
Acting Deputy Committee Management Officer.

[FR Doc. 2011-13063 Filed 5-25-11; 8:45 am]

BILLING CODE 6450-01-P